DEPARTMENT OF COMMERCE

Census Bureau

Agency Information Collection Activities; Submission to the Office of Management and Budget (OMB) for Review and Approval; Comment Request; National Survey of Children's Health.

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on November 14, 2023 during a 60-day comment period. This notice allows for an additional 30 days for public comments.

Agency: U.S. Census Bureau, Department of Commerce.

Title: National Survey of Children's Health.

OMB Control Number: 0607-0990

Form Number(s): NSCH-S1 (English Screener), NSCH-T1 (English Topical for 0- to 5-year-old children), NSCH-T2 (English Topical for 6- to 11-year-old children), NSCH-T3 (English Topical for 12- to 17-year-old children), NSCH-S-S1 (Spanish Screener), NSCH-S-T1 (Spanish Topical for 0- to 5-year-old children), NSCH-S-T2 (Spanish Topical for 6- to 11-year-old children), and NSCH-S-T3 (Spanish Topical for 12- to 17-year-old children).

Type of Request: Regular submission, Request for a Revision of a Currently Approved Collection.

Number of Respondents: 73,641 for the screener only and 56,649 for the combined screener and topical, for a total of 130,290 respondents.

Average Hours per Response: 5 minutes per screener response and 35-36 minutes per topical response, which in total is approximately 40-41 minutes for households with eligible children.

Burden Hours: 44,270.

Needs and Uses: The National Survey of Children's Health (NSCH) enables the Maternal and Child Health Bureau (MCHB) of the Health Resources and Services Administration (HRSA) of the U.S. Department of Health and Human Services (HHS) along with supplemental sponsoring agencies, states, and other data users to produce national and state-based estimates on the health and well-being of children, their families, and their communities as well as estimates of the prevalence and impact of children with special health care needs.

Data will be collected using one of two modes. The first mode is a web instrument (Centurion) survey that contains the screener and topical instruments. The web instrument first will take the respondent through the screener questions. If the household screens into the study, the respondent will be taken directly into one of the three age-based topical sets of questions. The second mode is a mailout/mailback of a self-administered paper-and-pencil interviewing (PAPI) screener instrument followed by a separate mailout/mailback of a PAPI age-based topical instrument.

The National Survey of Children's Health (NSCH) is a large-scale (sample size is approximately 375,000 addresses) national survey with approximately 292,500 addresses included in the base production survey and approximately 82,500 addresses included as part of fourteen separate state-based or region-based oversamples. As in prior cycles of the NSCH, there remain two key, non-experimental design elements. The first non-experimental design element is the use of an unconditional incentive ($5) in the initial screener and topical invitations. For the initial screener invitation, 90% of sampled addresses receive the cash incentive; the remaining 10% (the control) do not receive an incentive. This approach is used to consistently monitor the effectiveness of the cash incentive each cycle. The second non-experimental design element is a data collection procedure based on the block group-level paper-only response probability used to identify households (30% of the sample) that would be more likely to respond by paper and send them a paper questionnaire in the initial mailing and every nonresponse follow-up mailing.

The 2024 NSCH will also include a targeted secondary unconditional incentive test to encourage response from a subset of the sample that started the web questionnaire but did not finish. Prior cycles of the survey have included a $5 unconditional cash incentive with both the initial screener mailing as well as the initial paper topical mailing as outlined in the paragraph above. The incentive has proven to be a cost-effective intervention for increasing survey response and reducing nonresponse bias.

Affected Public: Individuals or households.

Frequency: The 2024 collection is the ninth administration of the NSCH. It is an annual survey, with a new sample drawn for each administration.

Respondent's Obligation: Voluntary.

Legal Authority: Census Authority: Title 13, United States Code (U.S.C.), section 8(b) (13 U.S.C. 8(b)).

HRSA MCHB Authority: Section 501(a)(2) of the Social Security Act (42 U.S.C. 701).

United States Department of Agriculture Authority: Agriculture Improvement Act of 2018, Public Law 115-334.

United States Department of Health and Human Services' Centers for Disease Control and Prevention, National Center on Birth Defects and Developmental Disabilities Authority: Public Health Service Act, Section 301, 42 U.S.C. 241.

United States Department of Health and Human Services' Centers for Disease Control and Prevention, National Center for Chronic Disease Prevention and Health Promotion Authority: Sections 301(a), 307, and 399G of the Public Health Service [42 U.S.C. 241(a), 242l, and 280e-11], as amended.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0990.

Sheleen Dumas,
Department PRA Clearance Officer, Office of the Under Secretary for Economic Affairs, Commerce Department.

[FR Doc. 2024-05609 Filed 3-14-24; 8:45 am]

BILLING CODE 3510-07-P